DEPARTMENT OF COMMERCE

National Oceanic and Atmospheric Administration

[I.D. 050905B]

New England Fishery Management Council; Public Meetings

AGENCY: National Marine Fisheries Service (NMFS), National Oceanic and Atmospheric Administration (NOAA), Commerce

ACTION: Public Meeting.

SUMMARY: The New England Fishery Management Council (Council) is scheduling a public meeting of its Scallop Advisory Panel in May, 2005 to consider actions affecting New England fisheries in the exclusive economic zone (EEZ). Recommendations from this group will be brought to the full Council for formal consideration and action, if appropriate.

DATES: The meeting will be held on Tuesday, May 31, 2005, at 9:30 a.m.

ADDRESSES: The meeting will be held at the Radisson Airport Hotel, 2081 Post Road, Warwick, RI 02886; telephone: (401) 739-3000.

FOR FURTHER INFORMATION CONTACT: Paul J. Howard, Executive Director, New England Fishery Management Council (978) 465-0492. Requests for special accommodations should be addressed to the New England Fishery Management Council, 50 Water Street, Mill 2, Newburyport, MA 01950; telephone: (978) 465-0492.

SUPPLEMENTARY INFORMATION: The Advisory Panel will consider and prioritize management measures and annual allocations to be adjusted in Framework Adjustment 18 for the 2006 and 2007 fishing years. Alternatives may include, but are not limited to; the following general management measures: Triggered adjustments to annual allocations and area closures through Notice Action, General Category fishery management, bag tags and standard bags (landings monitoring and compliance), allocations for vessels with small dredge permits, research proposal review process, research priorities, and fishing year alignment and framework adjustment frequency. In addition, the Advisory Panel may consider the following changes for the controlled access areas; rotation management fishing mortality targets by area, allocations of trips or pounds in controlled access areas, Hudson Canyon Area rotation management area policy, Elephant Trunk Area allocations for 2007; crew limits in controlled access areas; IFQ allocations in controlled access areas; sector allocations (harvest cooperatives or other entities); temporary transferability/stacking of controlled access allocations, improvements in the broken trip exemption program, and seasonal access to minimize bycatch and effects on spawning (Georges Bank access areas and Elephant Trunk Area in 2007). The Advisory Panel may also consider setting hard or target Total Allowable Catch (TAC) limits for open fishing areas. The priority recommendations will be reported to the Scallop Oversight Committee meeting on June 1, 2005.

Although non-emergency issues not contained in this agenda may come before this group for discussion, those issues may not be the subject of formal action during this meeting. Action will be restricted to those issues specifically listed in this notice and any issues arising after publication of this notice that require emergency action under section 305(c) of the Magnuson-Stevens Act, provided the public has been notified of the Council's intent to take final action to address the emergency.

Special Accommodations

This meeting is physically accessible to people with disabilities. Requests for sign language interpretation or other auxiliary aids should be directed to Paul J. Howard (see ADDRESSES) at least 5 days prior to the meeting dates.

Dated: May 9, 2005.
Emily Menashes,
Acting Director, Office of Sustainable Fisheries, National Marine Fisheries Service.

[FR Doc. E5-2337 Filed 5-11-05; 8:45 am]

BILLING CODE 3510-22-S